DEPARTMENT OF DEFENSE

Office of the Secretary

Federal Advisory Committee; Defense Advisory Committee on Military Personnel Testing

Agency: Under Secretary of Defense for Personnel and Readiness; DoD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the Defense Advisory Committee on Military Personnel Testing will meet November 18-19, 2010, in Carmel, CA.

DATES: The meeting will be held on Thursday, November 18 (from 8:30 a.m. to 4 p.m.) and Friday, November 19, 2010 (from 8:30 a.m. to noon).

ADDRESSES: The meeting will be held at the Pine Inn, Ocean Avenue between Lincoln St. and Monte Verde St., Carmel, CA 91921.

FOR FURTHER INFORMATION CONTACT: Committee's Designated Federal Officer or Point of Contact: Dr. Jane M. Arabian, Assistant Director, Accession Policy, Office of the Under Secretary of Defense (Personnel and Readiness), Room 3D1066, The Pentagon, Washington, DC 20301-4000, telephone (703) 697-9271.

SUPPLEMENTARY INFORMATION:

Purpose of the Meeting

The purpose of the meeting is to review planned changes and progress in developing computerized and paper-and-pencil enlistment tests.

Agenda

The agenda includes an overview of current enlistment test development timelines and planned research for the next 3 years.

Public's Accessibility to the Meeting

Pursuant to 5 U.S.C. 552b and 41 CFR 102-3.140 through 102-3.165, and the availability of space, this meeting is open to the public.

Oral Presentations/Written Statements

Persons desiring to make oral presentations or submit written statements for consideration at the Committee meeting must contact Dr. Jane M. Arabian (see FOR FURTHER INFORMATION CONTACT) no later than November 10, 2010.

Dated: October 13, 2010.
Mitchell S. Bryman,
Alternate OSD Federal Register Liaison Officer, Department of Defense.

[FR Doc. 2010-26189 Filed 10-15-10; 8:45 am]

BILLING CODE 5001-06-P